DEPARTMENT OF EDUCATION

Rehabilitation Training—Rehabilitation Continuing Education Program

AGENCY: Office of Special Education and Rehabilitative Services, Department of Education.

ACTION: Notice of proposed priority.

SUMMARY: The Assistant Secretary for Special Education and Rehabilitative Services proposes a priority under the Rehabilitation Continuing Education Program (RCEP) to fund regional Technical Assistance and Continuing Education (TACE) centers. The Assistant Secretary may use this priority for competitions in fiscal year (FY) 2008 and later years. We take this action to improve the quantity and quality of employment outcomes for individuals with disabilities through enhanced technical assistance and continuing education for State vocational rehabilitation (VR) agencies and agency partners that cooperate with State VR agencies in providing VR and other rehabilitation services (e.g., Centers for Independent Living, Client Assistance Programs, and Community Rehabilitation Programs).

DATES: We must receive your comments on or before February 28, 2008.

ADDRESSES: Address all comments about this proposed priority to Christine Marschall, U.S. Department of Education, 400 Maryland Ave., SW., room 5053, Potomac Center Plaza, Washington, DC 20202-2800. If you prefer to send your comments through the Internet, use the following address: Christine.Marschall@ed.gov.

You must include the term “TACE Priority” in the subject line of your electronic message.

FOR FURTHER INFORMATION CONTACT: Christine Marschall. Telephone: (202) 245-7429 or via Internet: Christine.Marschall@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation to Comment

We invite you to submit comments regarding this proposed priority.

We invite you to assist us in complying with the specific requirements of Executive Order 12866 and its overall requirement of reducing regulatory burden that might result from this proposed priority. Please let us know of any further opportunities we should take to reduce potential costs or increase potential benefits while preserving the effective and efficient administration of the program.

During and after the comment period, you may inspect all public comments about this proposed priority in room 5053, Potomac Center Plaza, 550 12th Street, SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority. If you want to schedule an appointment for this type of aid, please contact the person listed under FOR FURTHER INFORMATION CONTACT.

Background

The RCEP has traditionally provided continuing education to employees of State VR agencies and agency partners that cooperate with State VR agencies in providing VR and other rehabilitation services. Through the RCEP the Department currently supports 11 regional programs that focus on training employees and professionals of State VR agencies, Centers for Independent Living (CILs), and Client Assistance Programs (CAPs) and 10 regional programs that focus on training professionals of Community Rehabilitation Programs (CRPs).

Over the past two years, the Department's Rehabilitation Services Administration (RSA) has enhanced its program monitoring of State VR agencies to not only evaluate program compliance, but also to assist State VR agencies improve the quantity and quality of employment outcomes for individuals with disabilities. One result of RSA's enhanced monitoring has been the ability to identify the needs of State VR agencies for technical assistance and continuing education in such areas as improving quality assurance, using program data for program improvement, and managing personnel effectively.

On March 6, 2007, the Assistant Secretary for Special Education and Rehabilitative Services solicited public comments and recommendations regarding the RSA Rehabilitation Training program through a notice published in the Federal Register (72 FR 9942). The public comments and recommendations received in response to this notice generally support the role of the RCEP in providing technical assistance and continuing education. Many of the comments and recommendations also support maintaining the regional model of service provision for the program because it enables each regional RCEP center to be knowledgeable about the unique demographic, economic, and service needs of the State VR agencies in its region, and to tailor its continuing education and technical assistance activities to meet those needs.

Additionally, needs assessments conducted by the Department's current RCEP grantees indicate that technical assistance and continuing education for both the State VR agency and the agency partners are needed to improve employment outcomes for individuals with disabilities.

To address the need for technical assistance and continuing education, RSA seeks to revise the structure of the RCEP. Rather than supporting two types of Regional Centers as has been done under the current RCEP model—those serving State VR agencies, CILS, and CAPs and those serving CRPs—RSA seeks to fund 10 regional Technical Assistance and Continuing Education (TACE) centers to provide technical assistance and continuing education for both employees of State VR agencies and all agency partners (e.g., CILs, CAPs and CRPs). The integration of these activities in each regional center would help ensure that State VR agencies and all agency partners are provided with consistent information and strategies that can be implemented by State VR agencies and all agency partners to improve VR service delivery and the quality and quantity of employment outcomes for individuals with disabilities. In addition, the integration of the two types of RCEPs would result in greater administrative efficiency because the RCEPs that served the State VR agencies, CILs and CAPs and the RCEPs that served the CRPs frequently developed materials and provided training on similar topics. The reduction of overhead costs resulting from combining the two types of RCEPs would enable more RSA funds to be devoted to providing technical assistance and continuing education.

We will announce the final priority in a notice in the Federal Register. We will determine the final priority after considering responses to this notice and other information available to the Department. This notice does not preclude us from proposing or funding additional priorities, subject to meeting applicable rulemaking requirements.

Note: This notice does not solicit applications. In any year in which we choose to use this proposed priority, we invite applications through a notice in the Federal Register. When inviting applications we designate the priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priority: Proposed Priority—Regional Technical Assistance and Continuing Education (TACE) Centers.

The Assistant Secretary for Special Education and Rehabilitative Services proposes a priority to establish 10 regional TACE centers to provide (1) technical assistance to State VR agencies and agency partners that cooperate with State VR agencies in providing VR and other rehabilitation services to improve services required under the Rehabilitation Act of 1973, as amended, and (2) continuing education to employees of State VR agencies and agency partners.

Under this priority, the TACE centers must contribute to the following outcomes: Improved quality of VR services, increased effectiveness and efficiency of State VR agencies in delivering VR services, and improved quantity and quality of VR employment outcomes for individuals with disabilities. The TACE centers must contribute to these outcomes by providing technical assistance and continuing education, either directly or through contract, to employees of State VR agencies and agency partners on topics that are identified jointly by RSA and each center's advisory committee and included in the center's work plan.

Under this priority, applicants must demonstrate their ability to respond rapidly to a broad range of technical assistance and continuing education needs. Applicants must provide evidence in their applications that they have expertise, or access to subject-matter experts with experience, in conducting technical assistance and continuing education in such areas of need as the improvement of VR agencies' service delivery; practices and interventions related to specific VR populations; quality assurance; case management at the administrative and counselor level; the use of assistive technology to achieve employment goals; personnel management (e.g., staff retention strategies); fiscal management; data management; communication skills development; development of individualized plans for employment; development of VR State plans; and strategic planning.

Under this priority, each TACE center must—

1. Establish, in consultation with RSA, an annual work plan describing activities that the center will conduct to assist State VR agencies to accomplish the goals identified in their VR State plans and to achieve other performance and compliance goals identified by RSA's monitoring reports. The work plan must identify the nature and scope, including delivery means and methods, of the technical assistance and continuing education to be provided by the center;

2. Conduct an annual needs assessment to identify technical assistance and continuing education needs of State VR agencies and agency partners in its region, as applicable. Each center must base its annual needs assessment on a thorough review of VR State plans, on-site monitoring reports and annual review reports issued by RSA, other performance and compliance information available from RSA and State VR agencies, and other data, as appropriate;

3. Establish a center advisory committee to provide input on the annual needs assessments conducted by the center in accordance with paragraph (2) of this priority. In addition to the requirements in 34 CFR 385.40 for mandatory members of the center advisory committee, the committee must include representatives from Independent Living Training and Technical Assistance grantees and RSA representatives as ex-officio members.

Note: Members of minority groups are listed in 34 CFR 385.40 as one of the categories of mandatory participants on rehabilitation training advisory committees. However, the Department intends to publish a notice of proposed rulemaking (NPRM) to amend 34 CFR 385.40, which would remove the requirement that an applicant include members of minority groups on all project advisory committees. The NPRM would add a requirement that an applicant include individuals who are knowledgeable about the special needs of individuals with disabilities from diverse groups, including minority groups. The purpose of this change would be to more clearly reflect the intent of the Department that project advisory committees include individuals who are familiar with the needs of individuals with disabilities from diverse groups, rather than individuals who are just members of such groups.

4. Participate as an observer in RSA's triennial monitoring of State VR agencies in its region by attending, at a minimum, each State VR agency's monitoring exit conference in order to gain a thorough understanding of each State VR agency's technical assistance and continuing education needs;

5. Collaborate with other TACE centers to provide technical assistance and continuing education as efficiently as possible to employees of State VR agencies and agency partners that have similar needs;

6. Coordinate services with other entities that provide technical assistance to State VR agencies and agency partners, including, but not limited to, Independent Living Training and Technical Assistance grantees and Assistive Technology projects funded under the Department's Assistive Technology program; and

7. Evaluate how well each technical assistance and continuing education activity provided by the center meets a targeted area of need (e.g., the improvement of VR agencies' service delivery; practices and interventions related to specific VR populations; quality assurance), based on goals and objectives established for the activity in the center's work plan. Each center must provide data on each training and technical assistance activity it conducts, including the topic of the activity, the number and types of personnel and agencies participating in the activity, participant evaluations of the effectiveness of the activity, and any other data required by the Department. Each center must include the results of its evaluation in its annual performance report. RSA will convene an independent review panel to evaluate the work of the centers. The independent review panel will use the following performance measures: (a) The percentage of technical assistance and continuing education services provided by the center that are deemed to be of high quality; (b) the percentage of technical assistance and continuing education services provided by the center that are deemed to be of high relevance to State VR policies or practices; and (c) the percentage of technical assistance and continuing education services provided by the center that are deemed to be useful in improving State VR agency policies or practices.

Executive Order 12866

This notice of proposed priority (NPP) has been reviewed in accordance with Executive Order 12866. Under the terms of the order, we have assessed the potential costs and benefits of this regulatory action.

The potential costs associated with the NPP are those resulting from statutory requirements and those we have determined as necessary for administering this program effectively and efficiently.

In assessing the potential costs and benefits—both quantitative and qualitative—of this NPP, we have determined that the benefits of the proposed priority justify the costs.

We have also determined that this regulatory action does not unduly interfere with State, local, and tribal governments in the exercise of their governmental functions.

Summary of potential costs and benefits: Potential costs of the proposed priority include costs of establishing and administrating the program, conducting the annual needs assessments, providing technical assistance and continuing education, conducting the annual evaluation, and preparing and filing required reports. The benefits of the program are improved VR employment outcomes for individuals with disabilities as a result of technical assistance and continuing education activities and decreased administrative costs because the technical assistance and continuing education activities in each region are provided by one center rather than two centers.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program. Applicable Program Regulations: 34 CFR parts 385 and 389.

Electronic Access to This Document

You may view this document, as well as all other Department of Education documents published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://http://www.gpoaccess.gov/nara/index.html.

(Catalog of Federal Domestic Assistance Number 84.264A Rehabilitation Continuing Education Program).

Program Authority: 29 U.S.C. 772.

Dated: January 24, 2008.
Tracy R. Justesen,
Assistant Secretary for Special Education and Rehabilitative Services.

[FR Doc. E8-1528 Filed 1-28-08; 8:45 am]

BILLING CODE 4000-01-P